DEPARTMENT OF JUSTICE

Antitrust Division

Notice Pursuant to the National Cooperative Research and Production Act of 1993 Open Mobile Alliance

Notice is hereby given that, on January 13, 2008, pursuant to section 6(a) of the National Cooperative Research and Production Act of 1993, 15 U.S.C. 4301 et sec. (“the Act”), the Open Mobile Alliance (“OMA”) filed written notifications simultaneously with the Attorney General and the Federal Trade Commission disclosing changes in its membership. The notifications were filed for the purpose of extending the Act's provisions limiting the recovery of antitrust plaintiffs to actual damages under specified circumstances. Specifically, Arista Enterprises LLC, Fairbanks, AK; Beijing Leadtone Wireless Ltd., Chaoyang District, Beijing, PEOPLE'S REPUBLIC OF CHINA; Cinterion Wireless Modules, Munich, GERMANY; ConDel Technologies Inc., St. Jubel, TAIWAN; Dimark Software, Inc., Cupertino, CA; Enensys Technologies, Rennes, FRANCE; Garmin International Inc., Olathe, KS; GMIT GrnbH, Berlin, GERMANY; HTC Corporation, Taoyuan County, TAIWAN; Interop Technologies, Beirut, LEBANON; Kvaleberg AS, Oslo, NORWAY; MCTEL, Hector Otto, MONACO; Movenda SpA, Rome, ITALY; NDS Limited, Staines, Middlesex, UNITED KINGDOM; Neutral Tandem, Chicago, IL; Sagem Orga GmbH, Paderborn, GERMANY; Siodata Technologies, Hai Dian District, Beijing, PEOPLE'S REPUBLIC OF CHINA; Sofia Digital Ltd., Tampere, FINLAND; Solvix Technology Co., Ltd, Gangnam-gu, Seoul, REPUBLIC OF KOREA; Songdo Telecom, Inc., Yeonsu-gu, Incheon, REPUBLIC OF KOREA; S58 Networks, Milpitas, CA; Synclore Corporation, Tokyo, JAPAN; University of New Hampshire InterOperability Laboratory, Durham, NH; Verimatrix, Inc., San Diego, CA; Vobile, Inc., Santa Clara, CA; and Works Systems, mc, San Jose, CA, have been added as parties to this venture.

Also, Access Co., Ltd, Tokyo, JAPAN; Action Engine Corp. Redmond, WA; Adobe Systems Incorporated, San Francisco, CA; ALLTEL Communications, Inc., Little Rock, AR; AltGen Co., Ltd., Mapo-Gu, Seoul, REPUBLIC OF KOREA; Amiga Development India Pvt. Ltd., Pune, INDIA; Amrneon, Dublin, IRELAND; Anite Telecoms Ltd., Fleet, Hampshire, UNITED KINGDOM; Aricent, Gurgaon, INDIA; AtomiZ S.A., Paris, FRANCE; BaA Systems, San Jose, CA; Beijing InfoThunder Technology Ltd., XiCheng District, Beijing, PEOPLE'S REPUBLIC OF CHINA; Beijing ZRRT Communications Technology, Co., Ltd., Haidian District, Beijing, PEOPLE'S REPUBLIC OF CHINA; Best of. the Web, Uniondale, NY; END Co., Ltd., Buk-gu, Daegu, REPUBLIC OF KOREA; Bridgewater Systems Corporation, Ottawa, Ontario, CANADA; Calton Hill Limited, Edinburgh, UNITED KINGDOM; Cambridge Silicon Radio plc, Cambridge, UNITED KINGDOM; Cell Guide, Rehorot, ISRAEL; Certicom Corp., Mississauga, Ontario, CANADA; Cisco Systems, Milpitas, CA; Clarity Communication Systems, Inc., Aurora, IL; ComEase Pte Ltd., SINGAPORE; CoinmWyse A/S, Lyngby, DENMARK; Comneon GrnbH, Nuernberg, GERMANY; Connectivity Communications Limited, London, UNITED KINGDOM; Credant Technologies, Addison, TX; Critical Software, SA, Coirnbra, PORTUGAL; Digital Connect PTE Ltd., SINGAPORE; Diversinet Corp., Toronto, Ontario, CANADA; eAccess Ltd., Minato—ku, Tokyo, JAPAN; Electric Pocket, Pontyneryneydd, Torfaen, UNITED KINGDOM; Elisa, Elisa, FINLAND; Eluon Corporation, Seocho-Gu, Seoul, REPUBLIC OF KOREA; End2End VAS APS, Aalborg SV, DENMARK; Entosys Co., Ltd., Mapo-gu, Seoul, REPUBLIC OF KOREA; Fenestrae By, The Hague, NETHERLANDS; Frost & Sullivan China, Beijing, PEOPLE'S REPUBLIC OF CHINA; fusionOne, San Jose, CA; GaeaSoft Corporation, Seoul, REPUBLIC OF KOREA; Hellosoft, Inc., Andhoa Pradesh, INDIA; HUNIT CO., LTD. Gangnam-gu, Seoul, REPUBLIC OF KOREA; Infocity, Inc., Tokyo, JAPAN; Infraware, Seoul, REPUBLIC OF KOREA; INKA Entworks, Inc., Kangnam-Gu, Seoul, KOREA; Intertrust Technologies Corporation, Sunnyvale, CA; Intrinsyc Sof tare International, Inc., Bellevue, WA; Jabber, Inc., Denver, CO; Kimia Solutions S.L., Madrid, SPAIN; KPN Mobile, Leeuwarden, NETHERLANDS; MarkAny Inc., Seoul, REPUBLIC OF KOREA; Mitsubishi Electric Corporation, Amagasaki-city, Hyogo, JAPAN; MobiCornp, Braga, PORTUGAL; Mobilaris AB, Lulea, SWEDEN; Mobilus, Inc., Buk-Gu, Daegu, REPUBLIC OF KOREA; Mobitel, d.d., Ljubljana, SLOVENIA; Monotype Imaging Inc., Woburn, MA; Motive, Inc., Austin, TX; M-Spatial Limited, Cambridge, UNITED KINGDOM; Nable Communications, Inc., Kangnam-gu, Seoul, REPUBLIC OF KOREA; NAGRAVISION, Cheseaux, SWITZERLAND; Navitime Japan Co., Ltd., Tokyo, JAPAN; Nemerix, Cambridge, UNITED KINGDOM; NewACT, Yokneam, ISRAEL; Nortel, Brampton, Ontario, CANADA; NXP Semiconductors, Eindhoven, NETHERLANDS; Optenet S.A, Madrid, SPAIN; OZ Communications, Inc., Montreal, Quebec, CANADA; Pacific DataVision, Inc., San Diego, CA; Panasonic, Yokohama, JAPAN; Pantech & Curitel Communications Inc., Seocho-gu, Seoul, REPUBLIC OF KOREA; Payzy Corp., Kiongtoey, Bangkok, THAILAND; Philips Electronics, Eindhoven, NETHERLANDS; Porss Technology Co., Ltd., Xicheng District, Beijing, PEOPLE'S REPUBLIC OF CHINA; Portugal Telecom Inovacao, S . A., Aveiro, PORTUGAL; Protect Software GmbH, Dortmund, GERMANY; RRD Reti Radiotelevisive Digitali Sri, Milan, ITALY; RSystems Inc., El Dorado Hills, CA; Rx Networks, Vancouver, BC, CANADA; SDC AG, Easel, SWITZERLAND; SEC Co. Ltd., Tokyo, JAPAN; Semiconductores Investigacion Y Diseno S.A., Madrid, SPAIN; SHARP Corporation, Hiroshima-City, Hiroshima, JAPAN; Siemens AG, Berlin, GERMANY; Silicon & Software Systems Limited, Leopardstown, Dublin, IRELAND; Softfront, Minato-ku, Tokyo, JAPAN; Sonim Technologies, Inc., San Mateo, CA; Sony Corporation, Tokyo, JAPAN; Soundbuzz Pte Ltd., SINGAPORE; Streamezzo, Paris, FRANCE; Sunpius mNobile, Hsinchu, TAIWAN; Swisscom Mobile Ltd., Ostermundigen, SWITZERLAND; Symbian, London, UNITED KINGDOM; Synapsy Mobile, Networks GmbH, Hirmnelstadt, GERMANY; Synkia Sp. z.o.o., Krolewska, POLAND; Telematica Instituut, An Enschede, NETHERLANDS; Telogic Sdn. Bhd., Petaling Jaya, Selangor, MALAYSIA; Thin Multimedia, Inc., Seocho-Ku, Seoul, REPUBLIC OF KOREA; THOMSON, Cesson-Sevigne, FRANCE; Time Warner, Dulles, VA; Toshiba Corporation, Tokyo, JAPAN; Trio Network Solutions Oy, Helsinki, FINLAND; TruePosition, Inc., Berwyn, PA; Ulticom Incorporated, Mt. Laurel, NJ; Unipier, Netanya, ISRAEL; Vantrix Corporation. Montreal, Quebec, CANADA; V-Enable Inc., San Diego, CA; Vidiator, Bellevue, WA; Virtual Logix, Montigny-le Bretonneux, France; Vishwak Solutions Pvt. Ltd., Chennai, INDIA; Webmessenger Inc., Tujunga, CA; weCornrn Limited, London, England, UNITED KINGDOM; Welgate Corp., Seocho Dong, Seoul, REPUBLIC OF KOREA; Widevine Technologies, Inc., Seattle, WA; Wipro Limited, Bangalore, Karnataka, INDIA; Wireless Services Corp., Bellevue, WA; WRG, Inc., Seongnam-Si, Gyeonggi-Do, REPUBLIC OF KOREA; XCome Technology Ltd., Sanchueng, Taipei, TAIWAN; Yahoo, Inc., Sunnyvale, CA, have withdrawn as parties to this venture.

The following members have changed their names: China United Telecommunications Corporation to China Unicorn; T-Mobile International AG to Deutsche Telekom AG, TMO; INTICUBE Corp. to Hansol Inticube; Purple Labs S.A. to Myriad Group AG; NeuStar Inc. to Neustar Inc.; O3SIS Information Technology to O3SIS AG; STMicroelectronics to ST-Ericsson; Tecnornen to Tecnomen Lifetree; Verizon Wireless to Verizon.

No other changes have been made in either the membership or planned activity of the group research project. Membership in this group research project remains open, and the Forum intends to file additional written notifications disclosing all changes in membership.

On March 18, 1998, OMA filed its original notification pursuant to section 6(a) of the Act. The Department of Justice published a notice in the Federal Register pursuant to section 6(b) of the Act on December 31, 1998 (63 FR 72333).

The last notification was filed with the Department on July 25, 2008. A notice was published in the Federal Register pursuant to section 6(b) of the Act on September 5, 2008 (73 FR 51850)

Patricia A. Brink,
Deputy Director of Operations, Antitrust Division.

[FR Doc. 2010-5033 Filed 3-9-10; 8:45 am]

BILLING CODE 4410-11-M